DEPARTMENT OF AGRICULTURE

Forest Service

Wrangell-Petersburg Resource Advisory Committee

AGENCY: Forest Service, USDA.

ACTION: Corrected notice of meeting dates.

SUMMARY: This document contains correction to the notice of meeting which was published in the Federal Register of March 8, 2010 (75FR10460). The meeting which was scheduled for March 25, 26, and 27, 2010 has been rescheduled and the new meeting dates are April 8, 9, and 10, 2010. The Wrangell-Petersburg Resource Advisory Committee will meet in Petersburg, Alaska. The committee is meeting as authorized under the Secure Rural Schools and Community Self-Determination Act (Pub. L. 110-343) and in compliance with the Federal Advisory Committee Act. The purpose of the meeting is to update Committee members on changes in the legislation, elect officers, and develop operating guidelines and project evaluation criteria. The committee may also make project funding recommendations at this meeting.

DATES: The meeting will be held Thursday, April 8th from 1-5 p.m., on Friday, April 9th from 8 a.m.-5 p.m., and on Saturday, April 10th from 9 a.m. to 12 p.m.

ADDRESSES: The meeting will be held at the Petersburg Ranger District office at 12 North Nordic Drive in Petersburg, Alaska. Written comments should be sent to Christopher Savage, Petersburg District Ranger, P.O. Box 1328, Petersburg, Alaska 99833. Comments may also be sent via email to csavage@fs.fed.us, or via facsimile to 907-772-5995.

All comments, including names and addresses when provided, are placed in the record and are available for public inspection and copying. The public may inspect comments received at the Petersburg Ranger District office at 12 North Nordic Drive during regular office hours (Monday through Friday 8 a.m.-4:30 p.m.).

FOR FURTHER INFORMATION CONTACT: Christopher Savage, Petersburg District Ranger, P.O. Box 1328, Petersburg, Alaska, 99833, phone (907) 772-3871, e-mail csavage@fs.fed,us, or Robert Dalrymple, Wrangell District Ranger, P.O. Box 51, Wrangell, AK 99929, phone (907) 874-2323, e-mail rdalrymple@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Updating the committee on the Secure Rural Schools and Community Self Determination Act (Pub. L. 110-343); election of officers; development of committee operating guidelines and criteria for evaluation of projects proposed for funding. The committee may review project proposals and make recommendations for funding if time allows. Persons who wish to bring related matters to the attention of the Committee may file written statements with the Committee staff before or after the meeting. Public input sessions will be provided and individuals who made written requests by April 5th will have the opportunity to address the Committee at those sessions.

Dated: March 17, 2010.
Patricia O'Connor,
Acting Forest Supervisor.

[FR Doc. 2010-6459 Filed 3-24-10; 8:45 am]

BILLING CODE 3410-11-M